DEPARTMENT OF COMMERCE

International Trade Administration

A-570-879

Polyvinyl Alcohol from the People's Republic of China: Amended Final Results of Administrative Review

AGENCY: Import Administration, International Trade Administration, Department of Commerce.

SUMMARY: On May 15, 2006, the Department of Commerce (the “Department”) published Polyvinyl Alcohol from the People's Republic of China: Final Results of Antidumping Duty Administrative Review, 71 FR 27991 (May 15, 2006) (“Final Results”), covering the period of review (“POR”) August 11, 2003, through September 30, 2004. We are amending the Final Results to correct a ministerial error made in the calculation of the dumping margin for Sinopec Sichuan Vinylon Works (“SVW”), pursuant to section 751(h) of the Tariff Act of 1930, as amended (“the Act”).

EFFECTIVE DATE: June 21, 2006.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Scope of the Order

The merchandise covered by this order is PVA. This product consists of all PVA hydrolyzed in excess of 80 percent, whether or not mixed or diluted with commercial levels of defoamer or boric acid, except as noted below.

The following products are specifically excluded from the scope of this investigation:

1) PVA in fiber form.

2) PVA with hydrolysis less than 83 mole percent and certified not for use in the production of textiles.

3) PVA with hydrolysis greater than 85 percent and viscosity greater than or equal to 90 cps.

4) PVA with a hydrolysis greater than 85 percent, viscosity greater than or equal to 80 cps but less than 90 cps, certified for use in an ink jet application.

5) PVA for use in the manufacture of an excipient or as an excipient in the manufacture of film coating systems which are components of a drug or dietary supplement, and accompanied by an end-use certification.

6) PVA covalently bonded with cationic monomer uniformly present on all polymer chains in a concentration equal to or greater than one mole percent.

7) PVA covalently bonded with carboxylic acid uniformly present on all polymer chains in a concentration equal to or greater than two mole percent, certified for use in a paper application.

8) PVA covalently bonded with thiol uniformly present on all polymer chains, certified for use in emulsion polymerization of non-vinyl acetic material.

9) PVA covalently bonded with paraffin uniformly present on all polymer chains in a concentration equal to or greater than one mole percent.

10) PVA covalently bonded with silan uniformly present on all polymer chains certified for use in paper coating applications.

11) PVA covalently bonded with sulfonic acid uniformly present on all polymer chains in a concentration level equal to or greater than one mole percent.

12) PVA covalently bonded with acetoacetylate uniformly present on all polymer chains in a concentration level equal to or greater than one mole percent.

13) PVA covalently bonded with polyethylene oxide uniformly present on all polymer chains in a concentration level equal to or greater than one mole percent.

14) PVA covalently bonded with quaternary amine uniformly present on all polymer chains in a concentration level equal to or greater than one mole percent.

15) PVA covalently bonded with diacetoneacrylamide uniformly present on all polymer chains in a concentration level greater than three mole percent, certified for use in a paper application.

The merchandise subject to this order is currently classifiable under subheading 3905.30.00 of the Harmonized Tariff Schedule of the United States (“HTSUS”). Although the HTSUS subheading is provided for convenience and customs purposes, the written description of the scope of this order is dispositive.

Background

On May 15, 2006, the Department published the Final Results in the Federal Register. On May 16, 2006, we received a ministerial error allegation from SVW. A ministerial error is defined in section 751(h) of the Act and further clarified in 19 CFR 351.224(f) as “an error in addition, subtraction, or other arithmetic function, ministerial error resulting from inaccurate copying, duplication, or the like, and any other similar type of unintentional error which the Secretary considers ministerial.” No other party filed a ministerial error allegation or a rebuttal comment. After analyzing SVW's comments, we agree that a ministerial error existed in the calculations in the Final Results with respect to SVW. As a result, we are amending the final results to revise the antidumping margin for SVW, in accordance with 19 CFR 351.224(e).

Allegation: Calculation Error for the Methanol Factor of Production

SVW argues that the Department made a ministerial error in calculating the methanol factor of production in its final results. SVW states that it properly reported all inputs used in the production of methanol. SVW alleges that the Department did not include the input 0.6 megapascal (“MPA”) steam by-product in the total factor value of methanol. SVW maintains that this error constitutes a ministerial error because the Department failed to add the input 0.6 MPA steam by-product to its calculation of methanol.

Petitioners and Solutia, Inc., a domestic producer of PVA, did not comment on this issue.

Department's Position: We agree with SVW that we inadvertently excluded 0.6 MPA steam by-product in calculating the total cost of methanol. It was our intention to sum all the inputs used in the production of methanol. In correcting this error, we also noticed that we did not add the input 0.6 MPA steam by-product in our second methanol calculation. For these amended final results, we have also corrected this inadvertent error. See the memorandum to the file from Lilit Astvatsatrian, Case Analyst, through Robert Bolling, Program Manager, “Amended Final Analysis Memorandum for the Amended Final Results of Antidumping Review of the Order on Polyvinyl Alcohol (“PVA”) from the People's Republic of China,” dated June 14, 2006. Therefore, for the amended final results, we have included the value of 0.6 MPA steam by-product in the calculation of self-produced methanol in all of our methanol calculations.

Amended Final Results

As a result of the correction of ministerial errors and amended margin calculations, the following weighted-average margin exists for SVW, for the period August 11, 2003, through September 30, 2004.

Polyvinyl Alcohol from the PRC
Producer/Exporter | Weighted-Average Margin (Percent)
SVW | 0.03*

* This rate is de minimis.

The Department shall determine, and U.S. Customs and Border Protection (“CBP”) shall assess, antidumping duties on all appropriate entries based on the amended final results. For details on the assessment of antidumping duties on all appropriate entries, see Final Results, 71 FR 27991, 27993.

These amended final results are published in accordance with sections 751(h) and 777(i)(1) of the Act.

Dated: June 14, 2006.
David M. Spooner,
Assistant Secretary for Import Administration.

[FR Doc. E6-9766 Filed 6-20-06; 8:45 am]

BILLING CODE 3510-DS-S